DEPARTMENT OF TRANSPORTATION

Federal Aviation Administration

Fourth Meeting, Special Committee 214: Standards for Air Traffic Data Communication Services Joint With EUROCAE Working Group 78 (WG-78)

AGENCY: Federal Aviation Administration (FAA), DOT.

ACTION: Notice of RTCA Special Committee 214, Standards for Air Traffic Data Communication Services Joint with EUROCAE Working Group 78 (WG-78).

SUMMARY: The FAA is issuing this notice to advise the public of a first meeting of RTCA Special Committee 214, Standards for Air Traffic Data Communication Services Joint with EUROCAE Working Group 78 (WG-78).

DATES: The meeting will be held June 16-20, 2008 from 10 a.m.-4 p.m.

ADDRESS: The meeting will be held at EUROCAE, 102 rue Etienne Dolet, 92240 MALAKOFF, Phone: 33/1 40 92 79 30, Fax: 33/1 46 55 62 65.

FOR FURTHER INFORMATION CONTACT: David Bowen, e-mail: david.bowen@skynet.be; Local contact: Samira Bezza, e-mail: eurocae@eurocae.net.

SUPPLEMENTARY INFORMATION: Pursuant to section 10(a)(2) of the Federal Advisory Committee Act (Pub. L. 92-463, 5 U.S.C., Appendix 2), notice is hereby given for a Special Committee 214 meeting. The agenda will include:

• June 16:

• Welcome, Review Status and Needs (aka Tutorials), Approval of Agenda;

• SC-214 work so far and the SC-214/WG-78 Work Plan:

• Review of the work of the Subgroups so far: SG-1, SG-2 and SG-3;

• Introduction to the Environment Definitions produced by SG-1;

• Introduction to the new OSA methodology;

• Introduction to the OPA methodology;

• Introduction to the Interop methodology.

• June 17:

• Welcome and Approval of the Agenda for Days 2-5;

• Report of Last SC-214 meeting including Approval of Summary;

• Election of EUROCAE WG-78 Chairman and Subgroup co-chairs;

• Subgroup Reports and Action Item Review:

• SG-1, SG-2 and SG-3 reports;

• Review/Approve of OSA and OPA methodologies.

• June 18-19:

• Subgroup Reports;

• Review/Approve the OSEDs for all services;

• Review/Approve the D-OTIS, ACL, ACM, DLIC and DCL OSAs in the new Environments;

• Review Committee Plan—Master Schedule—Terms of Reference;

• Closing Session (Next Meeting Dates, Location and Agenda for Next meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 12, 2008.
Francisco Estrada C.,
RTCA Advisory Committee.

[FR Doc. E8-11268 Filed 5-21-08; 8:45 am]

BILLING CODE 4910-13-M